DEPARTMENT OF ENERGY

Federal Energy Regulatory Commission

[Docket No. RP20-1220-000]

Rockies Express Pipeline, LLC; Notice of Initiation of Section 5 Proceeding

On September 25, 2020, the Commission issued an order in Docket No. RP20-1220-000, pursuant to section 5 of the Natural Gas Act, 15 U.S.C. 717d (2012), instituting an investigation into whether the public interest presently requires that the firm transportation service agreements between Rockies Express Pipeline LLC (Rockies Express) and Gulfport Energy Corporation (Gulfport) should be abrogated or modified. Rockies Express Pipeline LLC, 172 FERC ¶ 61,279 (2020).

The Commission strongly encourages electronic filings of comments, protests and interventions in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Dated: September 25, 2020.
Kimberly D. Bose,
Secretary.

[FR Doc. 2020-21718 Filed 9-30-20; 8:45 am]

BILLING CODE 6717-01-P